DEPARTMENT OF THE INTERIOR

National Park Service

[NPS-WASO-NAGPRA-10397; 2200-1100-665]

Notice of Intent To Repatriate a Cultural Item: U.S. Department of the Interior, Indian Arts and Crafts Board, Museum of the Plains Indian, Browning, MT

AGENCY: National Park Service, Interior.

ACTION: Notice.

SUMMARY: The U.S. Department of the Interior, Indian Arts and Crafts Board, Museum of the Plains Indian, in consultation with the appropriate Indian tribe, has determined that a cultural item meets the definition of sacred object and repatriation to the Indian tribe stated below may occur if no additional claimants come forward. Representatives of any Indian tribe that believes itself to be culturally affiliated with the cultural item may contact the Museum of the Plains Indian, Indian Arts and Crafts Board.

DATES: Representatives of any Indian tribe that believes it has a cultural affiliation with the cultural item should contact the Museum of the Plains Indian, Indian Arts and Crafts Board at the address below by July 12, 2012.

ADDRESSES: David Dragonfly, Museum Technician, Museum of the Plains Indian, P.O. Box 410, Browning, MT 59417, telephone (406) 338-2230.

SUPPLEMENTARY INFORMATION: Notice is here given in accordance with the Native American Graves Protection and Repatriation Act (NAGPRA), 25 U.S.C. 3005, of the intent to repatriate a cultural item in the possession of the Museum of the Plains Indian, Browning, MT, that meets the definition of sacred object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

The sacred object is a Natoas bundle, used in the Blackfeet Sun Dance, and contained in two tubular rawhide cases. It includes a medicine woman's headdress complete with ornaments, a sacred digging stick with ornaments, skins used for drying perspiration, and a badger fur cover.

This bundle was purchased by the Museum of the Plains Indian from Theodore Last Star Piegan of Browning, MT, on September 20, 1941. Theodore Last Star received the bundle from John Old Chief. According to interviews with John Old Chief held before the purchase, this bundle had previously been used in ceremonies by John Old Chief's wife Cecile Little Skunk Old Chief, his mother Mourning Woman, and his grandmother, Strikes Back.

Determinations Made by the Indian Arts and Crafts Board

Officials of the Indian Arts and Crafts Board have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the Natoas bundle and the Blackfeet Tribe of the Blackfeet Reservation of Montana.

• While the Indian Arts and Crafts Board has information to support a right of possession, it does not believe that it can reasonably overcome this claim under a preponderance of evidence standard.

Additional Requestors and Disposition

Representatives of any other Indian tribe that believes itself to be culturally affiliated with the Natoas bundle should contact David Dragonfly, Museum Technician, Museum of the Plains Indian, P.O. Box 410, Browning, MT 59417, telephone (406) 338-2230, before July 12, 2012. Repatriation of the sacred object to the Blackfeet Tribe of the Blackfeet Reservation of Montana may proceed after that date if no additional claimants come forward.

The Indian Arts and Crafts Board is responsible for notifying the Blackfeet Tribe of the Blackfeet Reservation of Montana that this notice has been published.

Dated: June 7, 2012.
David Tarler,
Acting Manager, National NAGPRA Program.

[FR Doc. 2012-14296 Filed 6-11-12; 8:45 am]

BILLING CODE 4312-50-P